DEPARTMENT OF THE INTERIOR

Bureau of Land Management

[L14400000/LLAZ920000/ET0000/AZA-38386]

Notice of Withdrawal Application and Opportunity for a Public Meeting for the Tonto National Forest/Town of Superior, Arizona; Correction

AGENCY: Bureau of Land Management, Interior.

ACTION: Notice; correction.

SUMMARY: The Bureau of Land Management (BLM) published a notice in the Federal Register on July 20, 2022, regarding a United States Forest Service application with the BLM requesting that the Secretary of the Interior withdraw 276 acres of National Forest System lands located within the Tonto National Forest from location and entry under the U.S. mining laws for a 20-year term, subject to valid existing rights. The document cited an incorrect date for the termination of the segregation.

FOR FURTHER INFORMATION CONTACT: Michael Ouellett, Realty Specialist, BLM Arizona State Office, telephone (602) 417-9561, email at mouellett@blm.gov; or you may contact the BLM office at the address noted above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Correction

In the Federal Register published on July 20, 2022, FR Doc. 2022-15405, on page 43294, in the third column, correct the date to read:

For a period until July 19, 2024, the lands will be segregated as specified above unless the application is denied or canceled.

(Authority: 43 U.S.C. 1714(b)(1) and 43 CFR 2300)

Raymond Suazo,
State Director.

[FR Doc. 2022-16736 Filed 8-3-22; 8:45 am]

BILLING CODE 4310-32-P